DEPARTMENT OF HEALTH AND HUMAN SERVICES

Administration for Children and Families

Proposed Information Collection Activity; Plan for Foster Care and Adoption Assistance—Title IV-E (OMB #0970-0433)

AGENCY: Children's Bureau, Administration for Children and Families, HHS.

ACTION: Request for public comment.

SUMMARY: The Administration for Children and Families (ACF) is requesting to revise the existing information collection Plan for Foster Care and Adoption Assistance (OMB #0970-0433) to include two new information collections specific to two new programs.

DATES: Comments due within 60 days of publication. In compliance with the requirements of Section 3506(c)(2)(A) of the Paperwork Reduction Act of 1995, the Administration for Children and Families is soliciting public comment on the specific aspects of the information collection described above.

ADDRESSES: Copies of the proposed collection of information can be obtained and comments may be forwarded by emailing infocollection@acf.hhs.gov. Alternatively, copies can also be obtained by writing to the Administration for Children and Families, Office of Planning, Research, and Evaluation, 330 C Street SW, Washington, DC 20201, Attn: OPRE Reports Clearance Officer. All requests, emailed or written, should be identified by the title of the information collection.

SUPPLEMENTARY INFORMATION: Title IV-E of the Social Security Act (the Act) was amended by Public Law 115-123, which included the Family First Prevention Services Act (FFPSA). The FFPSA authorized new optional title IV-E funding for time-limited (one year) prevention services for mental health/substance abuse and in-home parent skill-based programs for: (1) A child who is a candidate for foster care (as defined in section 475(13) of the Act), (2) pregnant/parenting foster youth, and (3) the parents/kin caregivers of those children and youth (sections 471(e), 474(a)(6), and 475(13) of the Act). Title IV-E prevention services must be rated as promising, supported, or well-supported in accordance with HHS criteria and be approved by HHS (section 471(e)(4)(C) of the Act) as part of the Title IV-E Prevention Services Clearinghouse (section 476(d)(2) of the Act). A state or tribal title IV-E agency electing to participate in the program must submit a five-year title IV-E prevention program plan that meets the statutory requirements. (See Program Instructions ACYF-CB-PI-18-09 and ACYF-CB-PI-18-10 for more information.)

The FFPSA also amended Section 474(a)(7) of the Act to reimburse state and tribal IV-E agencies for a portion of the costs of operating kinship navigator programs that meet certain criteria. To qualify for funding under the title IV-E Kinship Navigator program, the program must meet the requirements of a kinship navigator program described in section 427(a)(1) of the Act. The kinship navigator program must also meet practice criteria of promising, supported, or well-supported in accordance with HHS criteria and be approved by HHS (section 471(e)(4)(C) of the Act). To begin participation in the title IV-E Kinship Navigator Program, a title IV-E agency must submit an attachment to its title IV-E plan that specifies the Kinship Navigator model it has chosen to implement, the date on which the provision of program services began or will begin, and that provides an assurance that the model meets the requirements of section 427(a)(1) of the Act as well as a brief narrative describing how the program will be operated. (Please see Program Instruction ACYF-CB-PI-18-11 for additional information.)

Respondents: State and tribal title IV-E agencies.

Annual Burden Estimates
Instrument | Total number of respondents | Number of responses per respondent | Average burden hours per response | Annual burden hours
Title IV-E prevention services plan | 30 | 1 | 5 | 150
Attachment to Title IV-E plan for Kinship navigator program | 45 | 1 | 1 | 45

Estimated Total Annual Burden Hours: 195.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: Title IV-E of the Social Security Act as amended by Public Law (Pub. L.) 115-123 enacted February 9, 2018.

Mary B. Jones,
ACF/OPRE Certifying Officer.

[FR Doc. 2019-15603 Filed 7-22-19; 8:45 am]

BILLING CODE 4184-25-P